DEPARTMENT OF THE INTERIOR

Fish and Wildlife Service

[FWS-R3-R-2012-N119; FXRS1265030000S3-123-FF03R06000]

Neal Smith National Wildlife Refuge, Jasper County, IA

AGENCY: Fish and Wildlife Service, Interior.

ACTION: Notice of availability; request for comments.

SUMMARY: We, the U.S. Fish and Wildlife Service (Service), announce the availability of a draft comprehensive conservation plan (CCP) and environmental assessment (EA) for Neal Smith National Wildlife Refuge (Refuge, NWR) for public review and comment. In this draft CCP/EA we describe how we propose to manage the refuge for the next 15 years.

DATES: To ensure consideration, we must receive your written comments by September 19, 2012. We will hold an open house-style meeting during the comment period to receive comments and provide information on the draft plan. In addition, we will use special mailings, newspaper articles, internet postings, and other media announcements to inform people of opportunities for input.

ADDRESSES: Send your comments or requests for more information by any one of the following methods:

• Email: r3planning@fws.gov. Include “Neal Smith Draft CCP/EA” in the subject line of the message.

• Fax: Attention: Refuge Manager, 515-994-3459.

• U.S. Mail: Attention: Refuge Manager Christy Smith, Neal Smith National Wildlife Refuge, P.O. Box 399, 9981 Pacific Street, Prairie City, IA 50228.

• In-Person Drop Off: You may drop off comments during regular business hours at the above address.

You will find the draft CCP/EA, as well as information about the planning process and a summary of the CCP, on the planning Web site: http://www.fws.gov/midwest/planning/nealsmith/index.html.

FOR FURTHER INFORMATION CONTACT: Christy Smith, 515-994-3400.

SUPPLEMENTARY INFORMATION:

Introduction

With this notice, we continue the CCP process for Neal Smith National Wildlife Refuge, which we began by publishing a notice of intent in the Federal Register (73 FR 7667) on December 17, 2008. For more about the initial process and the history of this refuge, see that notice.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The draft CCP/EA, which includes detailed information about the planning process, refuge, issues, and management alternatives considered and proposed, may be found at http://www.fws.gov/midwest/planning/nealsmith/index.html. There are four alternative refuge management options considered in the EA. The Service's preferred alternative is reflected in the draft CCP.

The alternatives analyzed in detail include:

• Alternative A: Current Management (No Action): This no-action alternative, reflects the current management of Neal Smith NWR. It provides the baseline against which to compare other alternatives.

• Alternative B: Refuge Habitat Focus (Preferred Alternative): This alternative focuses upon increasing the amount and diversity of native vegetation on the Refuge, and providing the varied habitat structure needed to support wildlife, especially declining populations of migratory grassland birds. Additional effort is directed toward restoring floristic quality on prairie and savanna remnants and monitoring and learning from the results of management actions. The Refuge boundary is expanded to the east and west by 3,210 acres, to include all tributaries of Walnut Creek that flow through the Refuge.

• Alternative C: Watershed Focus: This alternative emphasizes restoration of hydrologic function and native vegetation to the entire Walnut Creek watershed. Refuge staff builds and leads a new public/private partnership to develop and begin implementation of a long-term restoration plan for the watershed. The Refuge land acquisition boundary is expanded by 14,600 acres to include all lands within the watershed. Restoration of the southernmost reaches of the watershed creates a contiguous habitat connection between Neal Smith NWR and Lake Red Rock.

• Alternative D: Corridor Focus: This alternative emphasizes creation of a permanent wildlife habitat corridor connecting Neal Smith NWR with Chichaqua Bottoms Greenbelt to the north and Lake Red Rock to the south. Refuge staff builds and leads a new public/private partnership focused on increasing the wildlife value of lands within the corridor and supporting environmentally sound development. The Refuge land acquisition boundary is expanded by 20,550 acres to include the entire corridor area. Prairie restoration and management focus on creation of large connected tracts of diverse habitat structure for wildlife, especially declining populations of grassland birds.

Public Involvement

We will give the public an opportunity to provide input at a public meeting. You can obtain the schedule from the address or web site listed in this notice (see ADDRESSES). You may also submit comments anytime during the comment period.

Public Availability of Comments

Before including your address, phone number, email address, or other personal identifying information in your comment, you should be aware that your entire comment—including your personal identifying information—may be made publicly available at any time. While you can ask us in your comment to withhold your personal identifying information from public review, we cannot guarantee that we will be able to do so.

Thomas O. Melius,
Regional Director, Midwest Region, U.S. Fish and Wildlife Service.

[FR Doc. 2012-20359 Filed 8-17-12; 8:45 am]

BILLING CODE 4310-55-P